DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Protection and Advocacy for Individuals with Mental Illness (PAIMI) Final Rule, 42 CFR part 51—(OMB No. 0930-0172—Extension)—These regulations meet the directive under 42 U.S.C. 10826(b) requiring the Secretary to promulgate final regulations to carry out the PAIMI Act. The regulations contain information collection requirements. The Act authorized funds to support activities on behalf of individuals with significant (severe) mental illness (adults) or emotional impairment (children/youth) (42 U.S.C. at 10802(4)). However, only entities designated by the governor of each State and six (6) territories (the American Indian Consortium, American Samoa, Guam, the Northern Mariana Islands, Puerto Rico, and the U.S. Virgin Islands), and the Mayor of the District of Columbia to protect and advocate the rights of persons with developmental disabilities under Part C of the Developmental Disabilities and Bill of Rights Act (42 U.S.C. 6041 et seq., as amended in 2000) are eligible to receive PAIMI grants (42 U.S.C. at 10802(2)). PAIMI grants are based on a formula prescribed by the Secretary (42 U.S.C. at 10822(a)(1)(A)).

On January 1, each eligible State protection and advocacy (P&A) system is required to prepare and transmit to the Secretary and head of the State Mental Health Agency, in which the system is located, a report describing its activities, accomplishments, and expenditures during the most recently completed fiscal year. Section 10824(a) of the Act requires that the State P&A system's annual reports to the Secretary, shall describe its activities, accomplishments, and expenditures to protect the rights of individuals with mental illness supported with payments from PAIMI allotments, including:

(A) The number of (PAIMI-eligible) individuals with mental illness served;

(B) A description of the types of activities undertaken;

(C) A description of the types of facilities providing care or treatment to which such activities are undertaken;

(D) A description of the manner in which the activities are initiated;

(E) A description of the accomplishments resulting from such activities;

(F) A description of systems to protect and advocate the rights of individuals with mental illness supported with payments from PAIMI allotments;

(G) A description of activities conducted by States to protect and advocate such rights;

(H) A description of mechanisms established by residential facilities for individuals with mental illness to protect such rights; and,

(I) A description of the coordination among such systems, activities and mechanisms;

(J) Specification of the number of systems that are public and nonprofit systems established with PAIMI allotments; and

(K) Recommendations for activities and services to improve the protection and advocacy of the rights of individuals with mental illness and a description of the needs for such activities and services which have not been met by the State P&A systems established under the PAIMI Act. [The PAIMI Rules 42 CFR section 51.32(b) state that P&A systems may place restrictions on case or client acceptance criteria developed as part of its annual PAIMI priorities. However, prospective clients must be informed of any such restrictions at the time they request service].

This summary report must include a separate section, prepared by the PAIMI Advisory Council, that describes the council's activities and its assessment of the operations of the State P&A system (42 U.S.C. 10805(7)). The burden estimate for the annual State P&A system reporting requirements for these regulations is as follows.

42 CFR Citation | Number of respondents | Responses per respondent | Burden per response (hrs.) | Total annual burden
51.8(8)(a)(2) Program Performance Report ¹ | 57 | 1 | 26.0 | (1,482)
51.8(8)(a)(8) Advisory Council Report ¹ | 57 | 1 | 10.0 | (570)
51.10 Remedial Actions: Corrective Action Plan | 7 | 1 | 8.0 | 56
Implementation Status Report | 7 | 3 | 2.0 | 42
51.23(c) Reports, materials and fiscal data provided to Advisory Council | 57 | 1 | 1.0 | 57
51.25(b)(2) Grievance Procedure | 57 | 1 | .5 | 29
Total | 57 |  |  | 184
¹ Burden hours associated with these reports are approved under OMB Control No. 0930-0169.

Written comments and recommendations concerning the proposed information collection should be sent within 30 days of this notice to: SAMHSA Desk Officer, Human Resources and Housing Branch, Office of Management and Budget, New Executive Office Building, Room 10235, Washington, DC 20503; due to potential delays in OMB's receipt and processing of mail sent through the U.S. Postal Service, respondents are encouraged to submit comments by fax to: (202) 395-6974.

Dated: December 18, 2003.
Anna Marsh,
Acting Executive Officer, SAMHSA.

[FR Doc. 03-31975 Filed 12-29-03; 8:45 am]

BILLING CODE 4162-20-P